SMALL BUSINESS ADMINISTRATION

Data Collection Available for Public Comments

ACTION: 30-Day notice and request for comments.

SUMMARY: The Small Business Administration (SBA) intends to request approval, from the Office of Management and Budget (OMB) for the collection of information described below.

The Paperwork Reduction Act (PRA) requires federal agencies to publish a notice in the Federal Register concerning each proposed collection of information before submission to OMB, and to allow 30 days for public comment in response to the notice. This notice complies with that requirement.

DATES: Submit comments on or before July 1, 2025.

ADDRESSES: Send all comments to Bethany Shana, Office of Credit Risk Management, Small Business Administration.

FOR FURTHER INFORMATION CONTACT: Bethany Shana, Office of Credit Risk Management, bethany.shana@sba.gov, 202-205-6402.

SUPPLEMENTARY INFORMATION: The information collected is used by SBA to monitor the Agents, fees charged by Agents, and the relationship between Agents and lenders. The information helps SBA to determine among other things whether borrowers are paying unnecessary, unreasonable or prohibitive fees.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

OMB Control Number: 3245-0201.

Title: “Compensation Agreement”.

Form Numbers: 159, 159D.

Annual Responses: 16,210.

Annual Burden: 5,318.

Curtis Rich,
Agency Clearance Officer.

[FR Doc. 2025-07624 Filed 5-1-25; 8:45 am]

BILLING CODE 8026-09-P